NUCLEAR REGULATORY COMMISSION

Advisory Committee on Reactor Safeguards; Revision to July 8-10, 2009 ACRS Meeting Federal Register Notice

The Federal Register Notice for the ACRS meeting scheduled to be held on July 8-10, 2009, is being revised to make the following changes:

The discussion of Draft Final Regulatory Guide 1.215, “Guidance for ITAAC Closure under 10 CFR Part 52,” scheduled between 10:15 and 11:45 a.m. on Wednesday, July 8, 2009, is now scheduled between 10:45 a.m. and 12:15 p.m. on Thursday, July 9, 2009. The discussion of Draft Final Revision 3 to Regulatory Guide 1.100, “Seismic Qualification of Electric and Mechanical Equipment for Nuclear Power Plants,” scheduled between 10:45 a.m. and 12:15 p.m. on Thursday, July 9, 2009, is now scheduled between 10:15 and 11:45 a.m. on Wednesday, July 8, 2009.

In addition, the topic on Applicability of TRACE Code to Analyze ESBWR Stability, scheduled between 12:45 and 2:45 p.m. on Wednesday, July 8, 2009, has been clarified to state “Applicability of TRACE Code to Evaluate New LWR Designs.”

The notice of this meeting was previously published in the Federal Register on Wednesday, June 17, 2009 [74 FR 28727-28728]. All other items remain the same as previously published.

Further information regarding this meeting can be obtained by contacting Girija Shukla, Cognizant ACRS staff (301-415-6855), between 7:15 a.m. and 5 p.m., (ET).

Dated: June 18, 2009.
Andrew L. Bates,
Advisory Committee Management Officer.

[FR Doc. E9-14833 Filed 6-23-09; 8:45 am]

BILLING CODE 7590-01-P